DEPARTMENT OF DEFENSE

GENERAL SERVICES ADMINISTRATION

NATIONAL AERONAUTICS AND SPACE ADMINISTRATION

48 CFR Parts 1, 4, 9, 17, 22, and 52

[FAR Case 2014-025; Docket No. 2014-0025; Sequence No. 1]

RIN 9000-AM81

Federal Acquisition Regulation; Fair Pay and Safe Workplaces; Second Extension of Time for Comments

AGENCY: Department of Defense (DoD), General Services Administration (GSA), and National Aeronautics and Space Administration (NASA).

ACTION: Proposed rule; second extension of comment period.

SUMMARY: DoD, GSA, and NASA issued a proposed rule (FAR Case 2014-025) on May 28, 2015, amending the Federal Acquisition Regulation (FAR) to implement Executive Order (E.O.) 13673, “Fair Pay and Safe Workplaces,” which is designed to improve contractor compliance with labor laws and increase efficiency and cost savings in Federal contracting.

On July 14, 2015, DoD, GSA, and NASA published an extension of the comment period by 15 days, from July 27, 2015, to August 11, 2015. The deadline for submitting comments is being further extended by an additional 15 days from August 11, 2015, to August 26, 2015, to provide additional time for interested parties to comment on the FAR case. The due date for comments on DOL's Guidance for Executive Order 13673, “Fair Pay and Safe Workplaces”, which also implements the E.O., is being extended to August 26, 2015 as well.

DATES: The comment period for the purposed rule published on May 28, 2015 (80 FR 30548), is extended. Submit comments by August 26, 2015.

ADDRESSES: Submit comments in response to FAR Case 2014-025 by any of the following methods:

• Regulations.gov: http://www.regulations.gov. Submit comments via the Federal eRulemaking portal by searching for “FAR Case 2014-025”. Select the link “Comment Now” that corresponds with “FAR Case 2014-025.” Follow the instructions provided at the “Comment Now” screen. Please include your name, company name (if any), and “FAR Case 2014-025” on your attached document.

• Mail: General Services Administration, Regulatory Secretariat (MVCB), ATTN: Ms. Flowers, 1800 F Street NW., 2nd Floor, Washington, DC 20405.

Instructions: Please submit comments only and cite FAR Case 2014-025, in all correspondence related to this case. All comments received will be posted without change to http://www.regulations.gov, including any personal and/or business confidential information provided.

FOR FURTHER INFORMATION CONTACT: Mr. Edward Loeb, Procurement Analyst, at 202-501-0650, for clarification of content. For information pertaining to status or publication schedules, contact the Regulatory Secretariat at 202-501-4755. Please cite FAR Case 2014-025.

SUPPLEMENTARY INFORMATION:

Background

DoD, GSA, NASA published a proposed rule in the Federal Register at 80 FR 30548, May 28, 2015. The comment period is extended to provide additional time for interested parties to submit comments on the FAR case until August 26, 2015.

List of Subjects in 48 CFR Parts 1, 4, 9, 17, 22, and 52

Government procurement.

Dated: July 30, 2015.
William F. Clark,
Director, Office of Government-wide Acquisition Policy, Office of Acquisition Policy, Office of Government-wide Policy.

[FR Doc. 2015-19169 Filed 8-4-15; 8:45 am]

BILLING CODE 6820-EP-P